DEPARTMENT OF ENERGY

Federal Energy Regulatory Commission

Combined Notice of Filings #1

Take notice that the Commission received the following electric corporate filings:

Docket Numbers: EC19-63-000.

Applicants: NRG Wholesale Generation LP, Entergy Mississippi, LLC.

Description: Joint Application for Authorization Under Section 203 of the Federal Power Act of NRG Wholesale Generation LP, et al.

Filed Date: 3/1/19.

Accession Number: 20190301-5383.

Comments Due: 5 p.m. ET 4/30/19.

Take notice that the Commission received the following electric rate filings:

Docket Numbers: ER18-1854-001.

Applicants: Southwest Power Pool, Inc.

Description: Compliance filing: Request for Deferral of Effective Date—Revisions to Enhance OOME Filing to be effective N/A.

Filed Date: 3/5/19.

Accession Number: 20190305-5218.

Comments Due: 5 p.m. ET 3/26/19.

Docket Numbers: ER18-2058-001.

Applicants: Southwest Power Pool, Inc.

Description: Compliance filing: Request for Deferral of Effective Date-Revisions to Market Settlement Timelines to be effective N/A.

Filed Date: 3/5/19.

Accession Number: 20190305-5200.

Comments Due: 5 p.m. ET 3/26/19.

Docket Numbers: ER19-261-001.

Applicants: Southwest Power Pool, Inc.

Description: Compliance filing: Request for Deferral of Effective Date—Provisions for Jointly Owned Units to be effective N/A.

Filed Date: 3/5/19.

Accession Number: 20190305-5199.

Comments Due: 5 p.m. ET 3/26/19.

Docket Numbers: ER19-1047-001.

Applicants: VESIVEC LLC.

Description: Tariff Amendment: Supplemental—MBRA Tariff to be effective 3/7/2019.

Filed Date: 3/6/19.

Accession Number: 20190306-5184.

Comments Due: 5 p.m. ET 3/27/19.

Docket Numbers: ER19-1195-000.

Applicants: GSG 6, LLC.

Description: Baseline eTariff Filing: Reactive Service Revenue Requirement to be effective 5/1/2019.

Filed Date: 3/5/19.

Accession Number: 20190305-5221.

Comments Due: 5 p.m. ET 3/26/19.

Docket Numbers: ER19-1196-000.

Applicants: Midcontinent Independent System Operator, Inc.

Description: § 205(d) Rate Filing: 2019-03-06_Termination of SA 3156 ATC-CEC Project Commitment Agree. (Carmeuse) to be effective 3/7/2019.

Filed Date: 3/6/19.

Accession Number: 20190306-5051.

Comments Due: 5 p.m. ET 3/27/19.

Docket Numbers: ER19-1199-000.

Applicants: PJM Interconnection, L.L.C.

Description: § 205(d) Rate Filing: Original WMPA, SA No. 5294; Queue No. AC2-120 to be effective 2/7/2019.

Filed Date: 3/6/19.

Accession Number: 20190306-5101.

Comments Due: 5 p.m. ET 3/27/19.

Docket Numbers: ER19-1200-000.

Applicants: Clearway Power Marketing LLC.

Description: Baseline eTariff Filing: Market-Based Rate Authorization and Request for Waivers and Blanket Approvals to be effective 4/1/2019.

Filed Date: 3/6/19.

Accession Number: 20190306-5109.

Comments Due: 5 p.m. ET 3/27/19.

Docket Numbers: ER19-1201-000.

Applicants: Midcontinent Independent System Operator, Inc., Ameren Illinois Company.

Description: § 205(d) Rate Filing: 2019-03-06_SA 2004 Ameren-City of Kahoka 1st Rev WDS to be effective 4/1/2019.

Filed Date: 3/6/19.

Accession Number: 20190306-5127.

Comments Due: 5 p.m. ET 3/27/19.

Docket Numbers: ER19-1202-000.

Applicants: PacifiCorp.

Description: § 205(d) Rate Filing: BPA NITSA (SVEC Load) to be effective 3/29/2019.

Filed Date: 3/6/19.

Accession Number: 20190306-5134.

Comments Due: 5 p.m. ET 3/27/19.

Docket Numbers: ER19-1203-000.

Applicants: Southern California Edison Company.

Description: § 205(d) Rate Filing: LGIA High 5 Solar—High Desert Power Project, LLC and HDSI, LLC, SA 229 to be effective 3/7/2019.

Filed Date: 3/6/19.

Accession Number: 20190306-5137.

Comments Due: 5 p.m. ET 3/27/19.

Docket Numbers: ER19-1204-000.

Applicants: PJM Interconnection, L.L.C.

Description: § 205(d) Rate Filing: First Revised ISA No. 4697; Queue AD1-026 to be effective 2/4/2019.

Filed Date: 3/6/19.

Accession Number: 20190306-5178.

Comments Due: 5 p.m. ET 3/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2019.
Kimberly D. Bose,
Secretary.

[FR Doc. 2019-04680 Filed 3-13-19; 8:45 am]

BILLING CODE 6717-01-P